NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: NRC Form 212, “Qualifications Investigation, Professional, Technical, and Administrative Positions (other than clerical positions).” NRC Form 212A, “Qualifications Investigation, Secretarial/Clerical.”

3. The form number if applicable:

NRC Form 212

NRC Form 212A

4. How often the collection is required: On occasion.

5. Who will be required or asked to report: Current/former supervisors, co-workers of applicants for employment.

6. An estimate of the number of annual responses:

NRC Form 212: 1200

NRC Form 212A: 400.

7. The estimated number of annual respondents:

NRC Form 212: 1200

NRC Form 212A: 400

8. An estimate of the total number of hours needed annually to complete the requirement or request:

NRC Form 212: 300 hours (15 minutes per response).

NRC Form 212A:100 hours (15 minutes per response).

9. An indication of whether Section 3507(d), Public Law 104-13 applies: Not Applicable.

10. Abstract: Information requested on NRC Form 212, “Qualifications Investigation, Professional, Technical, and Administrative Positions (other than clerical positions)” and NRC Form 212A, “Qualification Investigation (Secretarial/Clerical)” is used to determine the qualifications and suitability of external applicants for employment with NRC. The completed forms may be used to examine, rate and/or assess the prospective employee's qualifications. The information regarding the qualifications of applicants for employment is reviewed by professional personnel of the Office of Human Resources, in conjunction with other information in the NRC files, to determine the qualifications of the applicant for appointment to the position under consideration.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by August 2, 2007. Comments received after this date will be considered if it is practical to do so, but assurance of consideration cannot be given to comments received after this date.

Paul Balserak, Desk Officer, Office of Information and Regulatory Affairs (3150-0033 and 3150-0034), NEOB-10202, Office of Management and Budget, Washington, DC 20503.

Comments can also be e-mailed to Paul_Balserak@omb.eop.gov or submitted by telephone at (202) 395-4650.

The NRC Clearance Officer is Margaret A. Janney, 301-415-7245.

Dated at Rockville, Maryland, this 26th day of June 2007.
For the Nuclear Regulatory Commission.
Margaret A. Janney,
NRC Clearance Officer, Office of Information Services.

[FR Doc. E7-12769 Filed 7-2-07; 8:45 am]

BILLING CODE 7590-01-P